DEPARTMENT OF AGRICULTURE

Forest Service

Eleven Point Resource Advisory Committee

AGENCY: Forest Service, USDA.

ACTION: Notice of meeting.

SUMMARY: The Eleven Point Resource Advisory Committee will meet in Winona, Missouri. The committee is authorized under the Secure Rural Schools and Community Self-Determination Act (Pub. L. 112-141) (the Act) and operates in compliance with the Federal Advisory Committee Act. The purpose of the committee is to improve collaborative relationships and to provide advice and recommendations to the Forest Service concerning projects and funding consistent with title II of the Act. The meeting is open to the public. The purpose of the meeting is to review and recommend projects authorized under title II of the Act.

DATES: The meeting will be held Thursday, September 27, 2012 at 6:30 p.m.

ADDRESSES: The meeting will be held at Twin Pines Conservation Education Center located on U.S. Highway 60, RT 1, Box 1998, Winona, MO. Written comments may be submitted as described under Supplementary Information. All comments, including names and addresses when provided, are placed in the record and are available for public inspection and copying. The public may inspect comments received at Mark Twain National Forest Supervisor's Office, 401 Fairgrounds Road, Rolla, MO. Please call ahead to 573-341-7404 to facilitate entry into the building to view comments.

FOR FURTHER INFORMATION CONTACT: Richard Hall, Eleven Point Resource Advisory Committee Coordinator, Mark Twain National Forest, 573-341-7404, rrhall@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: the meeting will focus on reviewing potential projects that the RAC may recommend for funding. The full agenda may be viewed at http://www/fs.usda.gov/main/pts/specialprojects/racweb. Anyone who would like to bring related matters to the attention of the committee may file written statements with the committee staff before the meeting. The agenda will include time for people to make oral statements of three minutes or less. Individuals wishing to make an oral statement should request in writing by September 23, 2012 to be scheduled on the agenda. Written comments and requests for time for oral comments must be sent to Richard Hall, 401 Fairgrounds Road, Rolla, MO, or by email to rrhall@fs.fed.us, or via facsimile to 573-364-6844. A summary of the meeting will be posted at http://www.fs.usda.gov/main/pts/specialprojects/racweb within 21 days of the meeting.

Meeting Accommodations: If you require sign language interpreting, assistive listening devices or other reasonable accommodation please request this in advance of the meeting by contacting the person listed in the section titled For Further Information Contact. All reasonable accommodation requests are managed on a case by case basis.

Dated: September 4, 2012.
Teresa Chase,
Acting Forest Supervisor.

[FR Doc. 2012-22276 Filed 9-10-12; 8:45 am]

BILLING CODE 3410-11-P